DEPARTMENT OF AGRICULTURE

Forest Service

Land Between the Lakes Advisory Board

AGENCY: Forest Service, USDA.

ACTION: Notice of meeting.

SUMMARY: The Land Between the Lakes Advisory Board (Board) will meet in Golden Pond, Kentucky. The Board is established consistent with the Federal Advisory Committee Act of 1972 (5 U.S.C. App 2). Additional information concerning the Board, including the meeting summary/minutes, can be found by visiting the Board's Web site at: http://www.lbl.org/LRMPadvisoryboard.html.

DATES: The meeting will be held on Wednesday, October 8, 2014 from 9:00 a.m. to 3:30 p.m. CST. All meetings are subject to cancellation. For updated status of meeting prior to attendance, please contact the person listed under FOR FURTHER INFORMATION CONTACT.

ADDRESSES: The meeting will be held at the Administration Building, 100 Van Morgan Drive, Golden Pond, Kentucky. Written comments may be submitted as described under Supplementary Information. All comments, including names and addresses, when provided, are placed in the record and available for public inspection and copying. The public may inspect comments received at the Land Between the Lakes National Recreation Area. Please call ahead to facilitate entry into the building.

FOR FURTHER INFORMATION CONTACT: Linda L. Taylor, Advisory Board Liaison, Land Between The Lakes National Recreation Area, 100 Van Morgan Drive, Golden Pond, Kentucky 42211, or by phone at 270-924-2002.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

(1) Discuss Environmental Education; and

(2) Effectively communicate future land management plan activities.

The meeting is open to the public. The Board's discussion is limited to Forest Service staff and board members. Individuals wishing to provide related matters to the attention of the Board may submit written comments no later than October 1, 2014. Written comments must be sent to Tina Tilley, Area Supervisor, Land Between the Lakes National Recreation Area, 100 Van Morgan Drive, Golden Pond, Kentucky 42211.

Meeting Accommodations: If you are a person requiring reasonable accommodations, please make requests in advance for sign language interpreting, assistive listening devices or other reasonable accommodations for access to the facility or proceedings by contacting the person listed in the section titled For Further Information Contact. All reasonable accommodation requests are managed on a case by case basis.

Dated: September 23, 2014.
Tina R. Tilley,
Area Supervisor, Land Between The Lakes.

[FR Doc. 2014-23232 Filed 9-29-14; 8:45 am]

BILLING CODE 3411-15-P